DEPARTMENT OF COMMERCE

Foreign-Trade Zones Board

[B-37-2023]

Foreign-Trade Zone (FTZ) 218; Authorization of Production Activity; Derecktor Fort Pierce, LLC; (Refurbished Water Vessels and Hulls); Fort Pierce, Florida

On June 6, 2023, Derecktor Fort Pierce, LLC submitted a notification of proposed production activity to the FTZ Board for its facility within Subzone 218A, in Fort Pierce, Florida.

The notification was processed in accordance with the regulations of the FTZ Board (15 CFR part 400), including notice in the Federal Register inviting public comment (88 FR 38483, June 13, 2023). On October 4, 2023, the applicant was notified of the FTZ Board's decision that no further review of the activity is warranted at this time. The production activity described in the notification was authorized, subject to the FTZ Act and the FTZ Board's regulations, including section 400.14.

Dated: October 4, 2023.
Camille R. Evans,
Acting Executive Secretary.

[FR Doc. 2023-22411 Filed 10-6-23; 8:45 am]

BILLING CODE 3510-DS-P